Title 3—

The President

Memorandum of January 22, 2014

Establishing a White House Task Force To Protect Students From Sexual Assault

Memorandum for the Heads of Executive Departments and Agencies

The prevalence of rape and sexual assault at our Nation's institutions of higher education is both deeply troubling and a call to action. Studies show that about one in five women is a survivor of attempted or completed sexual violence while in college. In addition, a substantial number of men experience sexual violence during college. Although schools have made progress in addressing rape and sexual assault, more needs to be done to ensure safe, secure environments for students of higher education.

There are a number of Federal laws aimed at making our campuses safer, and the Departments of Education and Justice have been working to enforce them. Among other requirements, institutions of higher education participating in Federal student financial assistance programs (institutions), including colleges, universities, community colleges, graduate and professional schools, for-profit schools, trade schools, and career and technical schools, must provide students with information on programs aimed at preventing rape and sexual assault, and on procedures for students to reporting rape and sexual assault. Institutions must also adopt and publish grievance procedures that provide for the prompt and equitable resolution of rape and sexual assault complaints, and investigate reports of rape and sexual assault and take swift action to prevent their recurrence. Survivors of rape and sexual assault must also be provided with information on how to access the support and services they need. Reports show, however, that institutions' compliance with these Federal laws is uneven and, in too many cases, inadequate. Building on existing enforcement efforts, we must strengthen and address compliance issues and provide institutions with additional tools to respond to and address rape and sexual assault.

Therefore, I am directing the Office of the Vice President and the White House Council on Women and Girls to lead an interagency effort to address campus rape and sexual assault, including coordinating Federal enforcement efforts by executive departments and agencies (agencies) and helping institutions meet their obligations under Federal law. To these ends, it is hereby ordered as follows:

Section 1. Establishment of the White House Task Force to Protect Students from Sexual Assault. There is established a White House Task Force to Protect Students from Sexual Assault (Task Force). The Task Force shall be co-chaired by designees of the Office of the Vice President and the White House Council on Women and Girls.

(a) Membership of the Task Force. In addition to the Co-Chairs, the Task Force shall consist of the following members:

(i) the Attorney General;

(ii) the Secretary of the Interior;

(iii) the Secretary of Health and Human Services;

(iv) the Secretary of Education;

(v) the Director of the Office of Science and Technology Policy;

(vi) the Director of the Domestic Policy Council;

(vii) the Cabinet Secretary; and

(viii) the heads of agencies or offices as the Co-Chairs may designate.

(b) A member of the Task Force may designate, to perform the Task Force functions of the member, senior officials who are part of the member's agency or office, and who are full-time officers or employees of the Federal Government.

Sec. 2. Mission and Function of the Task Force. (a) The Task Force shall work with agencies to develop a coordinated Federal response to campus rape and sexual assault. The functions of the Task Force are advisory only and shall include making recommendations to meet the following objectives:

(i) providing institutions with evidence-based best and promising practices for preventing and responding to rape and sexual assault;

(ii) building on the Federal Government's existing enforcement efforts to ensure that institutions comply fully with their legal obligations to prevent and respond to rape and sexual assault;

(iii) increasing the transparency of the Federal Government's enforcement activities concerning rape and sexual assault, consistent with applicable law and the interests of affected students;

(iv) broadening the public's awareness of individual institutions' compliance with their legal obligation to address rape and sexual assault; and

(v) facilitating coordination among agencies engaged in addressing rape and sexual assault and those charged with helping bring institutions into compliance with the law.

(b) In accordance with applicable law and in addition to regular meetings, the Task Force shall consult with external stakeholders, including institution officials, student groups, parents, athletic and educational associations, local rape crisis centers, and law enforcement agencies.

(c) Because rape and sexual assault also occur in the elementary and secondary school context, the Task Force shall evaluate how its proposals and recommendations may apply to, and may be implemented by, schools, school districts, and other elementary and secondary educational entities receiving Federal financial assistance.

Sec. 3. Action Plan. (a) Within 90 days of the date of this memorandum, the Task Force shall develop and submit proposals and recommendations to the President for:

(i) providing examples of instructions, policies, and protocols for institutions, including: rape and sexual assault policies; prevention programs; crisis intervention and advocacy services; complaint and grievance procedures; investigation protocols; adjudicatory procedures; disciplinary sanctions; and training and orientation modules for students, staff, and faculty;

(ii) measuring the success of prevention and response efforts at institutions, whether through compliance with individual policies or through broader assessments of campus climate, attitudes and safety, and providing the public with this information;

(iii) maximizing the Federal Government's effectiveness in combatting campus rape and sexual assault by, among other measures, making its enforcement activities transparent and accessible to students and prospective students nationwide; and

(iv) promoting greater coordination and consistency among the agencies and offices that enforce the Federal laws addressing campus rape and sexual assault and support improved campus responses to sexual violence.

(b) Within 1 year of the date of this memorandum, and then on an annual basis, the Task Force shall provide a report to the President on implementation efforts with respect to this memorandum.

Sec. 4. General Provisions. (a) This memorandum is not intended to, and does not, create any right or benefit, substantive or procedural, enforceable at law or in equity by any party against the United States, its departments, agencies, or entities, its officers, employees, or agents, or any other person.

(b) Nothing in this memorandum shall be construed to impair or otherwise affect:

(i) the authority granted by law to an agency or the head thereof; or

(ii) the functions of the Director of the Office of Management and Budget relating to budgetary, administrative, or legislative proposals.

(c) The heads of agencies and offices shall assist and provide information to the Task Force, consistent with applicable law, as may be necessary to carry out the functions of the Task Force. Each agency and office shall bear its own expenses of participating in the Task Force.

(d) This memorandum shall be implemented consistent with applicable law and subject to the availability of appropriations.

(e) The Secretary of Education is authorized and directed to publish this memorandum in the Federal Register.

THE WHITE HOUSE,

Washington, January 22, 2014.

[FR Doc. 2014-01645

Filed 1-24-14; 11:15 am]

Billing code 4000-01